COMMODITY FUTURES TRADING COMMISSION

Energy and Environmental Markets Advisory Committee Meeting

This is to give notice that the Commodity Futures Trading Commission's Energy Markets Advisory Committee will conduct a public meeting on Wednesday, May 13, 2009. The meeting will take place in the first floor hearing room of the Commission's Washington, DC headquarters, Three Lafayette Centre, 1155 21st Street NW., Washington, DC 20581 from 8 a.m. to 12 p.m. The purpose of the meeting is to discuss energy and environmental market issues. The meeting will be chaired by Commissioner Bart Chilton, who is Chairman of the Energy and Environmental Markets Advisory Committee.

The agenda will consist of the following:

(1) Call to Order and Introduction;

(2) Current Market and Regulatory Developments;

(3) Environmental Commodity Markets: The CFTC and a Carbon-Constrained World;

(4) Energy Price Volatility and Consumers;

(5) Discussion of Future Meetings and Topics;

(6) Adjournment.

The meeting is open to the public. Any member of the public who wishes to file a written statement with the committee should mail a copy of the statement to the attention of: Energy Markets Advisory Committee, c/o Commissioner Bart Chilton, Commodity Futures Trading Commission, Three Lafayette Centre, 1155 21st Street NW., Washington, DC 20581, before the meeting. Members of the public who wish to make oral statements should inform Commissioner Chilton in writing at the foregoing address at least three business days before the meeting. Reasonable provision will be made, if time permits, for oral presentations of no more than five minutes each in duration.

For further information concerning this meeting, please contact Commissioner Bart Chilton at 202-418-5060.

Issued by the Commission in Washington, DC, on April 24, 2009.
David A. Stawick,
Secretary of the Commission.

[FR Doc. E9-9869 Filed 4-28-09; 8:45 am]

BILLING CODE P